DEPARTMENT OF THE INTERIOR

Bureau of Land Management

[OR-030-01-1220-AA: GP01-0113]

Notice of Meeting of the Oregon Trail Interpretive Center Advisory Board

AGENCY: National Historic Oregon Trail Interpretive Center, Vale District, Bureau of Land Management, Interior.

ACTION: Notice of meeting.

SUMMARY: Notice is given that a meeting of the Advisory Board for the National Historic Oregon Trail Interpretive Center will be held on Thursday, April 19, 2001 from 8:00 a.m. to 12:00 noon in the Library Room at the Best Western Sunridge Inn, One Sunridge Lane, Baker City, Oregon. Public comments will be received from 12:00 noon to 12:15 p.m., April 19, 2001. Topics to be discussed are, Approval of Minutes, Standing Committees' Report, District Manager's Report, Center Director's Report and Board recommendations for FY2001-2002.

DATES: The meeting will begin at 8:00 a.m. and end at 12:00 noon, April 19, 2001.

FOR FURTHER INFORMATION CONTACT: David B. Hunsaker, Bureau of Land Management, National Historic Oregon Trail, Interpretive Center, P.O. Box 987, Baker City, OR 97814, (Telephone 541-523-1845)

Jerry L. Taylor,
(Acting) District Manager.

[FR Doc. 01-5893 Filed 3-8-01; 8:45 am]

BILLING CODE 4310-33-U